NUCLEAR REGULATORY COMMISSION

[Docket No. 72-25]

Foster Wheeler Environmental Corporation; Issuance of Environmental Assessment and Finding of No Significant Impact Regarding a Proposed Exemption

The U.S. Nuclear Regulatory Commission (NRC or the Commission) is considering issuance of an exemption, pursuant to 10 CFR 72.7, from the provisions of 10 CFR 72.30(c) to Foster Wheeler Environmental Corporation (FWENC or applicant). The requested exemption would allow FWENC to rely on the Statement of Intent from the Department of Energy (DOE) to satisfy the requirements for financial assurance for decommissioning of the Idaho Spent Fuel (ISF) Facility. FWENC submitted the exemption request on April 2, 2003, in support of its November 19, 2001, license application for the ISF Facility, an independent spent fuel storage installation (ISFSI) to be located at the Idaho National Engineering and Environmental Laboratory (INEEL).

Environmental Assessment (EA)

Identification of Proposed Action: The applicant requested an exemption from the requirement in 10 CFR 72.30(c) which states that financial assurance for decommissioning must be provided by one or more of the following methods, including: (1) Prepayment; (2) a surety method, insurance, or other guarantee method; (3) an external sinking fund; or (4) in the case of Federal, State, or local government licensees, a statement of intent containing a cost estimate for decommissioning, and indicating that funds for decommissioning will be obtained when necessary. FWENC, a private entity, will be the licensee for the ISF Facility, and the provisions of 10 CFR 72.30(c)(4) do not explicitly allow such a non-government entity to meet the decommissioning financial assurance requirements through reliance on a statement of intent. The requested exemption would allow the applicant to rely on the statement of intent provided by DOE for decommissioning funding assurance. DOE has contracted with FWENC for the licensing, construction, and operation of the ISF Facility, which will repackage and store spent fuel possessed by DOE, in partial fulfillment of the 1995 settlement agreement among DOE, the U.S. Navy, and the State of Idaho.

The proposed action before the Commission is whether to grant this exemption pursuant to 10 CFR 72.7.

Need for the Proposed Action: The applicant has requested a license to construct and operate the ISF Facility, as described in its license application, dated November 19, 2001, on behalf of the Department of Energy (DOE). FWENC will be the license holder for the ISF Facility, which would be the second NRC-licensed ISFSI at the INEEL. The proposed facility will be adjacent to the existing ISFSI for the TMI-2 fuel debris, and close to the DOE facilities currently storing the spent fuel to be moved to the ISF Facility. The ISF Facility represents an additional milestone in the 1995 settlement agreement among DOE, the U.S. Navy, and the State of Idaho regarding the disposition of spent nuclear fuel at INEEL.

The exemption would allow the applicant to rely on DOE's statement of intent to provide decommissioning funding for the ISF Facility when needed, instead of using one or more of the other methods specified in 10 CFR 72.30(c). These other methods would require the applicant to contribute substantial funds into one of these other financial instruments well in advance of decommissioning. This facility will be designed and operated exclusively for the interim storage of DOE spent fuel, and the licensing, construction, and operational costs will be paid directly or indirectly by DOE. DOE has also committed to obtain sufficient funding for the decommissioning of the facility from the U.S. Congress, when needed, so funding for all phases of the ISF Facility will ultimately be provided by DOE. To preclude FWENC from relying on the method in 10 CFR 72.30(c)(4) to meet the decommissioning financial assurance requirements for this facility would result in an unnecessary financial burden on the applicant, increasing overall project costs.

The NRC staff has evaluated the proposed exemption in its preliminary safety evaluation report (SER) for the ISF Facility, dated July 29, 2004. In the SER, the staff concludes that the intent of 10 CFR 72.30(c)(4) is met and that the commitments identified in the requested exemption are consistent with the requirements of the regulation. The staff finds the exemption request acceptable and will impose appropriate license conditions to ensure that the decommissioning funding commitments will be met.

Environmental Impacts of the Proposed Action: The NRC staff previously evaluated the environmental impacts resulting from the construction, operation and decommissioning of the ISF Facility, and determined that such impacts would be acceptably small. The staff's conclusions are documented in the “Environmental Impact Statement for the Proposed Idaho Spent Fuel Facility at the Idaho National Engineering and Environmental Laboratory in Butte County, Idaho (Final Report), NUREG-1773,” issued in January 2004. In that environmental impact statement (EIS), the staff performed a cost-benefit analysis, and concluded that the benefits of the facility outweigh the associated impacts and costs. This conclusion was based on the assumption that DOE would obtain the necessary decommissioning funding, as described in the exemption request. On this basis, and the fact that the proposed exemption deals with financial matters that will not affect the physical design or operation of the ISF Facility, the staff finds that the proposed exemption will not have any significant environmental impact.

Alternative to the Proposed Action: As an alternative to the proposed action, the staff considered denial of the proposed action (i.e., the “no-action” alternative). Approval or denial of the exemption request would result in no change in the environmental impacts described in the staff's final EIS. Therefore, the environmental impacts of the proposed action and the alternative action are similar.

Agencies and Persons Consulted: On August 2, 2004, Mr. Doug Walker, Senior Health Physicist with the State of Idaho INEEL Oversight Program, was contacted regarding the environmental assessment for the proposed exemption and had no comments. The NRC staff previously evaluated the environmental impacts of the ISF Facility in the final EIS issued in January 2004, and has determined that additional consultation under Section 7 of the Endangered Species Act is not required for this specific exemption which involves financial assurance mechanisms and will not affect listed species or critical habitat. The NRC staff has similarly determined that the proposed exemption is not a type of activity having the potential to cause effects on historic properties. Therefore, no further consultation is required under Section 106 of the National Historic Preservation Act.

Finding of No Significant Impact

The environmental impacts of the proposed action have been reviewed in accordance with the requirements set forth in 10 CFR Part 51. Based upon the foregoing EA, the Commission finds that the proposed action of granting the exemption from 10 CFR 72.30(c), so that FWENC may rely on DOE's statement of intent for the decommissioning financial assurance for the ISF Facility, will not significantly impact the quality of the human environment. Accordingly, the Commission has determined that a Finding of No Significant Impact is appropriate, and that an environmental impact statement for the proposed exemption is not necessary.

For further details with respect to this exemption request, see the FWENC license application for the ISF Facility, and the accompanying Safety Analysis Report, dated November 19, 2001, and the request for exemption, dated April 2, 2003, which were docketed under 10 CFR Part 72, Docket No. 72-25. These documents are available for public inspection at the Commission's Public Document Room, One White Flint North Building, 11555 Rockville Pike, Rockville, MD, or from the publicly available records component of NRC's Agencywide Documents Access and Management System (ADAMS). These documents may be accessed through the NRC's Public Electronic Reading Room on the Internet at http://www.nrc.gov/reading-rm/adams.html. If there are problems in accessing the documents located in ADAMS, contact the NRC Public Document Room (PDR) Reference staff at 1-800-397-4209, 301-415-4737 or by e-mail at pdr@nrc.gov.

Dated at Rockville, Maryland, this 2nd day of September, 2004.
For the Nuclear Regulatory Commission.
James R. Hall,
Senior Project Manager, Spent Fuel Project Office, Office of Nuclear Material Safety and Safeguards.

[FR Doc. 04-20591 Filed 9-10-04; 8:45 am]

BILLING CODE 7590-01-P